NUCLEAR REGULATORY COMMISSION

[Docket No. 52-011]

Southern Nuclear Operating Company; Notice of Availability of the Final Environmental Impact Statement (EIS) for an Early Site Permit (ESP) Application at the Vogtle Electric Generating Plant Site

Notice is hereby given that the U.S. Nuclear Regulatory Commission (NRC) has published NUREG-1872, “Final Environmental Impact Statement for an Early Site Permit (ESP) at the Vogtle Electric Generating Plant Site.” The site is located on the southwest side of the Savannah River in eastern Burke County, Georgia. A notice of availability of the draft EIS was published in the Federal Register on September 14, 2007 (72 FR 52586).

The purpose of this notice is to inform the public that NUREG-1872, “Final Environmental Impact Statement (EIS) for an Early Site Permit (ESP) at the Vogtle Electric Generating Plant Site”, Volumes 1 and 2 (including an addendum to Appendix F of Volume 2), is available for public inspection in the NRC Public Document Room (PDR) located at One White Flint North, 11555 Rockville Pike (First Floor) Rockville, Maryland 20852, or from the Publicly Available Records (PARS) component of NRC's Agencywide Documents Access and Management System (ADAMS), and will also be placed directly on the NRC website at http://www.nrc.gov. ADAMS is accessible from the NRC Web site at http://www.nrc.gov/reading-rm/adams.html (The Public Electronic Reading Room). Persons who do not have access to ADAMS, or who encounter problems in accessing the documents located in ADAMS, should contact the PRD reference staff by telephone at 1-800-397-4209 or 1-301-415-4737, or online at http://www.nrc.gov/reading-rm/contact-pdr.html. In addition, the following public library in the vicinity of the Vogtle ESP Site has agreed to make the FEIS available for public inspection:

Burke County Library,

130 Highway 24 South,

Waynesboro, GA 30830.

FOR FURTHER INFORMATION CONTACT: Mark Notich, Environmental Projects Branch 1, Division of Site and Environmental Reviews, Office of New Reactors, U.S. Nuclear Regulatory Commission, Washington, DC 20555-0001. Mr. Notich may be contacted by telephone at 301-415-3053, or by e-mail at mark.notich@nrc.gov.

Dated at Rockville, Maryland, this 13th day of August 2008.
For the Nuclear Regulatory Commission.
Nilesh Chokshi,
Deputy Director, Division of Site and Environmental Reviews, Office of New Reactors.

[FR Doc. E8-19371 Filed 8-20-08; 8:45 am]

BILLING CODE 7590-01-P